DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed extension collection of the following information collections: (1) Office of Federal Contract Compliance Programs (OFCCP), RECORDKEEPING AND REPORTING REQUIREMENTS-CONSTRUCTION; (2) Office of Workers' Compensation (OWCP), Division of Coal Mine Workers' Compensation (DCMWC), RESUBMISSION TURNAROUND DOCUMENT; (3) OWCP, DCMWC, RELEASE OF MEDICAL INFORMATION; and (4) REGULATIONS GOVERNING THE ADMINISTRATION OF THE LONGSHORE AND HARBOR WORKERS' ACT. Copies of the proposed information collection requests can be obtained by contacting the office listed below in the addressee section of this Notice.

DATES: Written comments must be submitted to the office listed in the addressee section below within 60 days of the date of this Notice.

ADDRESSEE: Ms. Patricia A. Forkel, U. S. Department of Labor, 200 Constitution Ave., NW., Room S-3201, Washington, DC 20210, telephone (202) 693-0339 (this is not a toll-free number), fax (202) 693-1451.

SUPPLEMENTARY INFORMATION:

OFCCP Recordkeeping and Reporting Requirements: Construction

I. Background

The OFCCP is responsible for the administration of three equal opportunity programs which prohibit employment discrimination and require affirmative action by government contractors and subcontractors. The Acts administered by the OFCCP are Executive Order 11246, as amended; Section 503 of the Rehabilitation Act of 1973, as amended; and the Vietnam Era Veterans' Readjustment Assistance Act (VEVRAA), 38 U.S.C. 4212. The OFCCP has promulgated regulations implementing these programs, which are found at Title 41 of the Code of Federal Regulations, Chapter 60. For purposes of this clearance request, the programs have been divided functionally into two categories, construction and supply and service. This information collection request covers the recordkeeping and reporting requirements for the construction industry. A separate information collection request covers the recordkeeping and reporting requirements for supply and service industries, and is approved under OMB number 1215-0072.

II. Review Focus

The Department of Labor (DOL) is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to carry out its responsibility to enforce the affirmative action and anti-discrimination provisions of the three Acts which it administers.

Type of Review: Extension.

Agency: Employment Standards Administration.

Title: OFCCP Recordkeeping and Reporting Requirements, Construction.

OMB Number: 1215-0163.

Affected Public: Businesses or other for-profit; Not-for-profit institutions.

Total Respondents: 100,000.

Total Annual Responses: 103,711.

Average Time per Response, Recordkeeping:

Records Maintenance: 8 to 24 hours.

Affirmative Action Plan, Initial Development: 18 hours.

Affirmative Action Plan, Annual Update: 7.5 hours.

Affirmative Action Plan, Maintenance: 7.5 hours.

Average Time per Response, Reporting:

CC-41 Quarterly Administrative Committee Report: 25 minutes.

Compliance Reviews: 1-2 hours.

Total Burden Hours, Recordkeeping and Reporting: 4,841,475.

Frequency (Reporting): Quarterly.

Total Burden Cost (capital/startup): $0.

Total Burden Cost (operating/maintenance): $5.76.

Resubmission Turnaround Document (CM-1173)

I. Background

The Federal Mine Safety and Health Act of 1977, as amended (30 U.S.C. 901) and 20 CFR 725.701 provides DCMWC with responsibility for payment of covered black lung related medical treatment rendered to miners who are awarded black lung benefits. The Resubmission Turnaround Document (CM-1173) is used to request specific medical data to ensure the processing of Form OWCP-1500 (for payment of out-patient bills and for services and supplies provided to beneficiaries) and Form UB-92 (for payment of hospital bills).

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The DOL seeks extension of approval to collect this information on order to carry out its responsibility to ensure that black lung beneficiaries receive benefits as mandated in the legislation. The Resubmission Turnaround Document is sent to medical providers when information critical to bill payment is missing from a provider submitted medical bill (OWCP-1500 or UB-92). With use of the Resubmission Turnaround Document, a provider receives a document identifying all billing deficiencies based on a computer review of the bill. The bill remains in the system and processing continues once the necessary information is received. This in turn expedites payment to the provider, reduces processing time, maintains an audit trail, and is administratively cost effective.

Type of Review: Extension.

Agency: Employment Standards Administration.

Title: Resubmission Turnaround Document.

OMB Number: 1215-0177.

Agency Number: CM-1173.

Affected Public: Businesses or other for-profit; Not-for-profit institutions.

Total Respondents: 89,000.

Frequency: On occasion.

Total Responses: 89,000.

Average Time per Response: 5 minutes.

Estimated Total Burden Hours: 7,417.

Total Burden Cost (capital/startup): $0.

Total Burden Cost (operating and maintenance): $32,040.

Release of Medical Information (CM-936)

I. Background

The Federal Mine Safety and Health Act of 1977, as amended (30 U.S.C. 923), and 20 CFR 725.405 require that all relevant medical evidence be considered before a decision can be made regarding a claimant's eligibility for benefits. The CM-936 is a form that gives the claimant's consent for release of information covered by the Privacy Act of 1974, and contains information required by medical institutions and private physicians to enable them to release pertinent medical information.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks extension of approval to collect this information in order to obtain the claimant's consent for medical institutions and private physicians to release medical information to the Division of Coal Mine Workers' Compensation as evidence to support their claim for benefits. Failure to gather this information would inhibit the adjudication of black lung claims because pertinent medical data would not be considered during claims processing.

Type of Review: Extension.

Agency: Employment Standards Administration.

Title: Authorization for Release of Medical Information.

OMB Number: 1215-0057.

Agency Number: CM-936.

Affected Public: Individuals or households.

Total Respondents: 2,700.

Frequency: Once.

Total Responses: 2,700.

Average Time per Response: 5 minutes.

Estimated Total Burden Hours: 225.

Total Burden Cost (capital/startup): $0.

Total Burden Cost (operating/maintenance): $0.

Regulations Governing the Administration of the Longshore and Harbor Workers' Compensation Act

I. Background

The Longshore and Harbor Workers' Compensation Act, as amended (20 CFR 702.162, 702.174, 702.175, 20 CFR 702.242, 20 CFR 702.285, 702.321, 702.201, and 702.111) pertains to the provision of benefits to workers injured in maritime employment on the navigable waters of the United States or in an adjoining area customarily used by an employer in loading, unloading, repairing, or building a vessel, as well as coverage extended to certain other employees. The Longshore Act administration requirements include: payment of compensation liens incurred by Trust Funds; certification of exemption and reinstatement of employers who are engaged in the building, repairing, or dismantling of exclusively small vessels; settlement of cases under the Act; reporting of earnings by injured claimants receiving benefits under the Act; filing applications for relief under second injury provisions; and, maintenance of injury reports under the Act. The forms contained in this information collection request have been developed to capture the information required by various sections of the regulations.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor (DOL) seeks extension of approval to collect this information in order to carry out its responsibility to insure that Longshore beneficiaries are receiving appropriate benefits. Failure to request this information would result in no way to insure beneficiaries are receiving the correct amount of benefits.

Type of Review: Extension.

Agency: Employment Standards Administration.

Title: Regulations Governing the Administration of the Longshore and Harbor Workers' Compensation Act.

OMB Number: 1215-0160.

Agency Numbers: LS-200, 201, 203, 204, 262, 267, 271, 274, 513, ESA-100.

Affected Public: Individuals or households, Businesses or other for profit, Small businesses or organizations.

Total Respondents: 189,144.

Frequency: On occasion.

Total Responses: 189,144.

Average Time Per Response for Reporting:

LS-200—10 minutes

LS-201, 203, 204, 262—15 minutes

LS-267—2 minutes

LS-271—2 hours

LS-274—1 hour

LS-513—30 minutes

Estimated Total Burden Hours: 84,576.

Total Burden Cost (capital/startup): 0.

Total Burden Cost (operating/maintenance): $60.

Comments submitted in response to this notice will be summarized and/or included in the request for Office of Management and Budget approval of the information collection request; they will also become a matter of public record.

Dated: July 13, 2000.
Margaret J. Sherrill,
Chief, Branch of Management Review and Internal Control, Division of Financial Management, Office of Management, Administration and Planning, Employment Standards Administration.

[FR Doc. 00-18217 Filed 7-18-00; 8:45 am]

BILLING CODE 4510-49-P